ENVIRONMENTAL PROTECTION AGENCY

40 CFR Part 52

[EPA-R06-OAR-2010-0190; FRL-9287-7]

Approval and Promulgation of Implementation Plans; Oklahoma; Regional Haze State Implementation Plan; Federal Implementation Plan for Interstate Transport of Pollution Affecting Visibility and Best Available Retrofit Technology Determinations

AGENCY: Environmental Protection Agency (EPA).

ACTION: Announcement of public hearing.

SUMMARY: On March 22, 2011, EPA published a proposal in the Federal Register to approve and disapprove portions of State Implementation Plan (SIP) revisions submitted by the State of Oklahoma and promulgate a Federal Implementation Plan (FIP) to address the Clean Air Act requirement for best available retrofit technology (BART) for sulfur dioxide (SO2) emissions and to prevent emissions from Oklahoma sources from interfering with other states' measures to protect visibility. In the notice EPA announced an open house and public hearing for the proposal to be held April 13, 2011, in Oklahoma City, Oklahoma. In this notice EPA is announcing an additional open house and public hearing to be held in Tulsa, Oklahoma on April 14, 2011. More information is provided in SUPPLEMENTARY INFORMATION.

DATES: Public hearings, preceded by an open house, will be held on April 13, 2011, in Oklahoma City, Oklahoma, and April 14, 2011, in Tulsa, Oklahoma.

ADDRESSES: The April 13, 2011, open house and public hearing will be held at the Metro Technology Centers, Springlake Campus, Business Conference Center, Meeting Rooms H and I, 1900 Springlake Drive, Oklahoma City, Oklahoma 73111, (405) 424-8324. The April 14, 2011, open house and public hearing will be held at the Tulsa Tech—Riverside Campus, in the Auditorium of the Alliance Conference Center, 801 East 91st Street, Tulsa, Oklahoma 74132, (918) 828-4000. Driving directions to the Tulsa Tech—Riverside Campus may also be found using the following address: 801 West K Place, Jenks, Oklahoma 74037.

FOR FURTHER INFORMATION CONTACT: Joe Kordzi, EPA Region 6 Air Planning Section, telephone (214) 665-7186, e-mail address r6air_okhaze@epa.gov.

SUPPLEMENTARY INFORMATION: Throughout this document whenever “we”, “us”, or “our” is used, we mean the EPA. On March 22, 2011, we published a proposal in the Federal Register to (1) approve and disapprove portions of SIP revisions submitted by the State of Oklahoma and (2) promulgate a FIP to address the Clean Air Act requirement for BART for SO2 emissions and to prevent emissions from Oklahoma sources from interfering with other states' measures to protect visibility. See 76 FR 16168. Our proposal can be accessed online at http://www.regulations.gov (Docket No. EPA-R06-OAR-2010-0190). In the notice we announced an open house and public hearing for the proposal to be held Wednesday, April 13, 2011, in Oklahoma City, Oklahoma. We have scheduled an additional open house and public hearing to be held in Tulsa, Oklahoma on Thursday, April 14, 2011.

The Oklahoma City open house and public hearing is scheduled to be held on Wednesday April 13, 2011, at the Metro Technology Centers, Springlake Campus, Business Conference Center, Meeting Rooms H and I, 1900 Springlake Drive, Oklahoma City, Oklahoma 73111, (405) 424-8324. The Metro Technology Centers Springlake Campus is located at the intersection of Martin Luther King Ave. and Springlake Drive between NE. 36th and NE. 50th just south of the Oklahoma City Zoo and Kirkpatrick Center. Parking for the Business Conference Center is available at no charge.

The Tulsa open house and public hearing is scheduled to be held on Thursday, April 14, 2011, at the Tulsa Tech—Riverside Campus, in the Auditorium of the Alliance Conference Center, 801 East 91st Street, Tulsa, Oklahoma 74132, (918) 828-4000. Driving directions to the Tulsa Tech—Riverside Campus may also be found using the following address: 801 West K Place, Jenks, Oklahoma 74037. The Tulsa Tech—Riverside Campus is located on the south side of Tulsa, and is east of Highway 75 and north of the Creek Turnpike. Parking is available on campus at no charge.

For both locations the open house will begin at 1 p.m. and end at 3 p.m. local time. The public hearing will be held from 4 p.m. until 6 p.m., and again from 7 p.m. until 9 p.m. Opening remarks for the public hearing will be provided at 4 p.m., and again at 7 p.m. The public hearing will provide interested parties the opportunity to present information and opinions to EPA concerning our proposal. Interested parties may also submit written comments, as discussed in the proposal. Written statements and supporting information submitted during the comment period will be considered with the same weight as any oral comments and supporting information presented at the public hearing. We will not respond to comments during the public hearing. When we publish our final action, we will provide written responses to all oral and written comments received on our proposal. To provide opportunities for questions and discussion, we will hold an open house prior to the public hearing. During the open house, EPA staff will be available to informally answer questions on our proposed action. Any comments made to EPA staff during the open house must still be provided formally in writing or orally during the public hearing in order to be considered in the record.

At the public hearing, the hearing officer may limit the time available for each commenter to address the proposal to 5 minutes or less if the hearing officer determines it to be appropriate. We will not be providing equipment for commenters to show overhead slides or make computerized slide presentations. Any person may provide written or oral comments and data pertaining to our proposal at the Public Hearing. Verbatim transcripts, in English, of the hearing and written statements will be included in the rulemaking docket.

Dated: March 23, 2011.
Carl E. Edlund,
Multimedia Planning and Permitting Division, Director, Region 6.

[FR Doc. 2011-7459 Filed 3-29-11; 8:45 am]

BILLING CODE 6560-50-P